DEPARTMENT OF HEALTH AND HUMAN SERVICES

Administration for Children and Families

Proposed Information Collection Activity; Comment Request

Title: National and Tribal Evaluation of the 2nd Generation of the Health Profession Opportunity Grants.

OMB NO.: 0970-0462

Description: The Administration for Children and Families (ACF), U.S. Department of Health and Human Services (HHS) is proposing data collection activities as part of the Health Profession Opportunity Grants (HPOG) Program. ACF has developed a multi-pronged research and evaluation approach for the HPOG program to better understand and assess the activities conducted and their results. Two rounds of HPOG grants have been awarded—the first in 2010 (HPOG 1.0) and the second in 2015 (HPOG 2.0). There are federal evaluations associated with each round of grants. HPOG grants provide funding to government agencies, community-based organizations, post-secondary educational institutions, and tribal-affiliated organizations to provide education and training services to Temporary Assistance for Needy Families (TANF) recipients and other low-income individuals. Under HPOG 2.0, ACF awarded grants to five tribal-affiliated organizations and 27 non-tribal entities. The proposed data collection activities described in this notice will provide data for the implementation studies of the National and Tribal Evaluation of the 2nd Generation of the Health Profession Opportunity Grants (i.e., the HPOG 2.0 National Evaluation and the HPOG 2.0 Tribal Evaluation) as well as the impact study for the HPOG 2.0 National Evaluation. OMB previously approved baseline data collection and informed consent forms for the HPOG 2.0 Evaluations under OMB Control Number 0970-0462.

The design for the HPOG 2.0 National Evaluation features an implementation study and a cost benefit study. The National Evaluation will use an experimental design to measure and analyze key participant outcomes and impacts including completion of education and training, receipt of certificates and/or degrees, earnings, and employment in a healthcare career.

This information collection clearance request pertains to the implementation study and impact study. Future information collection requests will be submitted related to the implementation study, cost-benefit study, and impact study. The goal of the implementation study is to describe and assess the implementation, systems change, outcomes and other important information about the operations of the 27 non-tribal HPOG grantees, which are operating 38 distinct programs. To achieve these goals, it is necessary to collect data about the non-tribal HPOG program designs and implementation, HPOG partner and program networks, the composition and intensity of HPOG services received, participant characteristics and HPOG experiences, and participant outputs and outcomes.

The goal of the HPOG 2.0 Tribal Evaluation is to conduct a comprehensive implementation and outcome evaluation of the five Tribal HPOG 2.0 grantee programs. The evaluation will assess the HPOG 2.0 programs administered by tribes, tribal organizations, and tribal colleges to identify and assess how programmatic health profession training operations are working; determine differences in approaches being used when programs are serving different sub-populations, including participants with different characteristics and skill levels; and identify programs and practices that are successful in supporting the target population to achieve portable industry-recognized certificates or degrees as well as employment-related outcomes.

The information collection activities to be submitted in the request package include: (1) Screening Interview to identify respondents for the HPOG 2.0 National Evaluation first-round telephone interviews. (2) HPOG 2.0 National Evaluation first-round telephone interviews with management and staff. These interviews will collect information about the HPOG program context and about program administration, activities and services, partner and stakeholder roles and networks, and respondent perceptions of the program's strengths. (3) HPOG 2.0 National Evaluation in-person implementation interviews with HPOG personnel will collect information from six HPOG 2.0 programs with promising approaches to the topic areas of specific interest to ACF. (4) HPOG 2.0 National Evaluation participant contact update forms. (5) HPOG 2.0 Tribal Evaluation grantee and partner administrative staff interviews will collect information on high-level program strategies, partnerships in place to implement the Tribal HPOG 2.0 program, program development and lessons learned. (6) HPOG 2.0 Tribal Evaluation program implementation staff interviews will collect information from instructors, trainers, recruitment and orientation staff, and providers of program or supportive services on Tribal HPOG 2.0 program processes including recruitment, screening, orientation, provision of supportive services, and program implementation. (7) HPOG 2.0 Tribal Evaluation employer interviews will collect information from local or regional employers that are partnering with Tribal HPOG 2.0 programs or have employed participants and collect information on employers' impressions of the tribal HPOG 2.0 program and program graduates. (8) HPOG 2.0 Tribal Evaluation program participant focus groups will collect information on participants' perceptions, experience, outcomes and satisfaction with the Tribal HPOG 2.0 program. (9) HPOG 2.0 Tribal Evaluation program participant completer interviews will collect information on the current employment status of the participants who completed a training program and their perceptions of and satisfaction with the Tribal HPOG 2.0 program. (10) HPOG 2.0 Tribal Evaluation program participant non-completer interviews will collect information on reasons participants left the program, short-term outcomes, how they feel the program could be improved, and any plans for future academic training.

ACF will request approval for additional information collection related to the HPOG 2.0 National Evaluation in the future. A Federal Register Notice will be published, allowing for public comment prior to submitting the proposed ICR to OMB.

Respondents: For the HPOG 2.0 National Evaluation: HPOG program managers; HPOG program staff; and representatives of partner agencies and stakeholders, including support service providers, education and vocational training providers, Workforce Investment Boards, TANF agencies, and participants at the 27 non-tribal HPOG 2.0 grantees. For the HPOG 2.0 Tribal Evaluation: Tribal HPOG 2.0 program staff; administrative staff at grantee institutions; representatives from partner agencies and stakeholders, including local employers; and Tribal HPOG program participants at the 5 tribal HPOG 2.0 grantees.

This information collection request is for 3 years.

Annual Burden Estimates
Instrument | Total number of respondents | Annual number of respondents | Number of responses per respondent | Average burden hours per response | Annual burden hours
HPOG 2.0 National Evaluation
1. Screening tool for identifying respondents for first-round telephone interviews | 114 | 38 | 1 | .5 | 19
2. First round telephone interview protocol for non-tribal HPOG grantee staff and partners | 570 | 190 | 1 | .75 | 143
3. On-site interviews with program management, staff and major partners at six programs | 216 | 72 | 1 | 1.5 | 108
4. Participant contact update forms | 15,000 | 5000 | 4 | .1 | 2000
HPOG 2.0 Tribal Evaluation
5. Grantee and partner administrative staff interview | 105 | 35 | 1 | 1 | 35
6. Program implementation staff interview | 150 | 50 | 1 | 1.5 | 75
7. Employer interview | 90 | 30 | 1 | .75 | 23
8. Program participant focus group | 405 | 135 | 1 | 1.5 | 203
9. Program participant completer interview | 300 | 100 | 1 | 1 | 100
10. Program participant non-completer interview | 150 | 50 | 1 | 1 | 50

Estimated Total Annual Burden Hours: 2756.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
ACF/OPRE Certifying Officer.

[FR Doc. 2016-19337 Filed 8-12-16; 8:45 am]

BILLING CODE 4184-72-P